DEPARTMENT OF THE INTERIOR

Fish and Wildlife Service

[FWS-R6-ES-2013-N113; 60120-1113-0000-C2]

Endangered and Threatened Wildlife and Plants; Draft Revised Supplement to the Grizzly Bear Recovery Plan; Extension of Public Comment Period

AGENCY: Fish and Wildlife Service, Interior.

ACTION: Notice of availability; extension of comment period.

SUMMARY: We, the U.S. Fish and Wildlife Service (Service), are extending the public comment period for a Draft Revised Supplement to the Grizzly Bear Recovery Plan in the greater Yellowstone area. If you have previously submitted comments, please do not resubmit them, because we have already incorporated them in the public record and will fully consider them in our final Supplement.

DATES: Written comments must be submitted by June 20, 2013.

ADDRESSES: Send comments by U.S. mail to Chris Servheen, U.S. Fish and Wildlife Service, University Hall—Room 309, Missoula, MT 59812, or via email to FerretSHA@fws.gov. An electronic copy of the draft Revised Supplement to the Grizzly Bear Recovery Plan is available at http://www.fws.gov/mountain-prairie/species/mammals/grizzly/yellowstoneindex.html.

If you do not have access to the Web site, you may request hard copies by telephone at (406) 243-4903 or by letter to the address above.

FOR FURTHER INFORMATION CONTACT: Chris Servheen, Grizzly Bear Recovery Coordinator, U.S. Fish and Wildlife Service, (406) 243-4903.

SUPPLEMENTARY INFORMATION: On March 22, 2013 we published a Federal Register notice (78 FR 17708) announcing the availability of a draft Revised Supplement to the Grizzly Bear Recovery Plan. This supplement proposes to revise the demographic recovery criteria for the Yellowstone Ecosystem. We are providing the public more time to review these documents by extending the public comment period for another 30 days in response to a request from Earthjustice, on behalf of Defenders of Wildlife, the Greater Yellowstone Coalition, the Natural Resources Defense Council, and the Sierra Club. For information on where to view the documents and how to submit comments, please see the ADDRESSES section above.

Public Availability of Comments

Before including your address, phone number, email address, or other personal identifying information in your comment, you should be aware that your entire comment—including your personal identifying information—may be made publicly available at any time. While you may ask us in your comment to withhold your personal identifying information from public review, we cannot guarantee that we will be able to do so.

Authority

We provide this notice under section 4(f) of the Endangered Species Act (16 U.S.C. 1531 et seq.) and its implementing regulations (50 CFR 17.1 et seq.) and the National Environmental Policy Act (NEPA) (42 U.S.C. 4371 et seq.) and its implementing regulations (40 CFR 1500 et seq.)

Dated: May 9, 2013.
Matt Hogan,
Acting Regional Director, Denver, Colorado.

[FR Doc. 2013-12051 Filed 5-20-13; 8:45 am]

BILLING CODE 4310-55-P